COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) that were on the Procurement List that were furnished by nonprofit agencies employing persons who are blind or have other severe disabilities.

DATES: Comments must be received on or before: December 19, 2021.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product(s) are proposed for deletion from the Procurement List:

Product(s)

NSN(s)—Product Name(s):

2520-01-398-4589—Parts Kit, Hydraulic Transmission, Utility Trucks

2590-00-299-0739—Valve, Poppet, Hull Drain

2520-01-211-6702—Parts Kit, Transmission Oil Filter

Designated Source of Supply: Goodwill Industries—Knoxville, Inc., Knoxville, TN

Contracting Activity: DLA LAND AND MARITIME, COLUMBUS, OH

NSN(s)—Product Name(s): 8465-00-656-0816—Bag, Laundry, Self-Closing, Ropeless

Designated Source of Supply: Ability Building Center, Inc., Rochester, MN

Contracting Activity: DLA TROOP SUPPORT, PHILADELPHIA, PA

NSN(s)—Product Name(s): 7520-01-484-5256—Pen, Ball Point, Retractable, Ergonomic, MD Ergo Grip, Blue Barrel, Blue Ink, Medium Point

Designated Source of Supply: Industries for the Blind and Visually Impaired, Inc., West Allis, WI

Contracting Activity: GSA/FAS ADMIN SVCS ACQUISITION BR(2, NEW YORK, NY

Michael R. Jurkowski,
Acting Deputy Director, Business Operations.

[FR Doc. 2021-25262 Filed 11-18-21; 8:45 am]

BILLING CODE 6353-01-P